DEPARTMENT OF THE INTERIOR

Bureau of Indian Affairs

[178A2100DD/AAKC001030/A0A501010.999900 253G]

Proclaiming Certain Lands as Reservation for the Confederated Tribes of the Chehalis Reservation of Washington

AGENCY: Bureau of Indian Affairs, Interior.

ACTION: Notice of Reservation Proclamation.

SUMMARY: This notice informs the public that the Assistant Secretary—Indian Affairs proclaimed approximately 24.76 acres, more or less, an addition to the reservation of the Confederated Tribes of the Chehalis Reservation.

FOR FURTHER INFORMATION CONTACT: Sharlene M. Round Face, Bureau of Indian Affairs, Division of Real Estate Services, 1849 C Street NW., MS-4642-MIB, Washington, DC 20240, telephone (202) 208-3615.

SUPPLEMENTARY INFORMATION: This notice is published in the exercise of authority delegated by the Secretary of the Interior to the Assistant Secretary—Indian Affairs by part 209 of the Departmental Manual.

A proclamation was issued according to section 7 of the Act of June 18, 1934 (48 Stat. 984) for the lands described below. The land was proclaimed to be an addition to the Chehalis Reservation for the Confederated Tribes of the Chehalis Reservation, Thurston County and State of Washington.

Willamette Meridian

Thurston County, Washington, 5 Parcels

Legal Description Containing 24.76 Acres, More or Less

Bricker Eagle 1 Parcel (157-T-1198)

Lot B of Boundary Line Adjustment No. BLA-0397 as recorded August 21, 1986, under Auditor's File No. 8608210025 and as amended by instruments recorded February 18, 2011, under Auditor's File Nos. 4198844 and 4198845; EXCEPT that portion conveyed to the State of Washington, Department of Transportation, by deeds recorded October 9, 2009, under Auditor's File Nos. 4115371, 4115372 and 4115373.

Situated in Thurston County, Washington. Containing 7.06 acres, more or less.

Prairie Creek Parcel (157-T-1222)

Tract 25 of Grand Valley Fruit & Garden Tracts as recorded in Volume 8 of Plats, page 100. EXCEPT that portion conveyed to Thurston County by deed recorded May 28, 1998, under Auditor's File No. 3156361. Situated in the Southwest quarter of the Southwest quarter of Section 12, Township 15 North, Range 3 West, Willamette Meridian.

Situated in Thurston County, State of Washington. Containing 3.73 acres, more or less.

Eagle 2 Parcel (157-T-1223)

Tract 40 of Jacksons Meadow Tracts, as recorded in Volume 8 of Plats, page 67; EXCEPTING THEREFROM Primary State Highway No. 9 along the North boundary; ALSO EXCEPTING the South 220 feet thereof, located in the Southeast Quarter of the Northeast Quarter of Section 11, Township 15 North, Range 3 West, Willamette Meridian.

Situated in Thurston County, State of Washington. Containing 2.67 acres, more or less.

So Parcel (157-T-1224)

The South 185 feet of Tract 23 of Jackson Fruit Tracts, as recorded in Volume 8 of Plats, page 54; EXCEPTING THEREFROM the East 122.2 feet; AND EXCEPTING ALSO the South 15 feet for county road known as First Street (198th Avenue SW). All found in Section 11, Township 15 North, Range 3 West of the Willamette Meridian.

Situated in the County of Thurston, State of Washington. Containing 0.76 acre, more or less.

Mound Parcel (157-T-1225)

Lot 1 of Short Subdivision No. SS962868TC, as recorded January 14, 1998, under Auditor's File No. 3129810 located in the SE ¼ of Section 10 and the SW ¼ of Section 11, Township 15 North, Range 3 West, Willamette Meridian.

Situated in Thurston County, Washington. Containing 10.54 acres, more or less.

The above described lands contain a total of 24.76 acres, more or less, which are subject to all valid rights, reservations, rights-of-way, and easements of record.

This proclamation does not affect title to the lands described above, nor does it affect any valid existing easements for public roads, highways, public utilities, railroads, and pipelines or any other valid easements or rights-of-way or reservations of record.

Dated: October 28, 2016.
Lawrence S. Roberts,
Principal Deputy Assistant Secretary—Indian Affairs.

[FR Doc. 2016-26853 Filed 11-4-16; 8:45 am]

BILLING CODE 4337-15-P